ENVIRONMENTAL PROTECTION AGENCY

[EPA-HQ-OLEM-2018-0390, FRL-9980-04-OLEM]

Agency Information Collection Activities; Proposed Collection; Comment Request; Hazardous Waste Generator Standards (Renewal)

AGENCY: Environmental Protection Agency (EPA).

ACTION: Notice.

SUMMARY: The Environmental Protection Agency (EPA) is planning to submit the information collection request (ICR), Hazardous Waste Generator Standards (Renewal) (EPA ICR No. 0820.14, OMB Control No. 2050-0035) to the Office of Management and Budget (OMB) for review and approval in accordance with the Paperwork Reduction Act (PRA). Before doing so, the EPA is soliciting public comments on specific aspects of the proposed information collection as described below. This is a proposed extension of the ICR, which is currently approved through October 31, 2018. An Agency may not conduct or sponsor and a person is not required to respond to a collection of information unless it displays a currently valid OMB control number.

DATES: Comments must be submitted on or before September 4, 2018.

ADDRESSES: Submit your comments, referencing by Docket ID No. EPA-HQ-OLEM-2018-0390, online using www.regulations.gov (our preferred method), by email to rcra-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Brian Knieser, Office of Resource Conservation and Recovery (mail code 5304P), Environmental Protection Agency, 1200 Pennsylvania Ave. NW, Washington, DC 20460; telephone number: 703-347-8769; fax number: 703-308-0514; email address: knieser.brian@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: Under the Resource Conservation and Recovery Act (RCRA), as amended, Congress directed EPA to implement a comprehensive program for the safe management of hazardous waste. The core of the national waste management program is the regulation of hazardous waste from generation to transport to treatment and eventual disposal, or from “cradle to grave.” Section 3001(d) of RCRA requires EPA to develop standards for small quantity generators. Section 3002 of RCRA states, among other things, that EPA shall establish requirements for hazardous waste generators regarding recordkeeping practices. Section 3002 also requires EPA to establish standards on appropriate use of containers by generators. Finally, Section 3017 of RCRA specifies requirements for individuals exporting hazardous waste from the United States, including a notification of the intent to export, and an annual report summarizing the types, quantities, frequency, and ultimate destination of all exported hazardous waste.

On November 28, 2016, EPA published the “Hazardous Waste Generator Improvements Rule” (81 FR 85732), which implemented several specific changes to the hazardous waste generator program. These improvements include: (1) Revising different components of the hazardous waste regulatory program; (2) addressing gaps in the current regulations; (3) providing greater flexibility for hazardous waste generators to manage their hazardous waste in a cost-effective manner; (4) reorganizing the hazardous waste generator regulations to improve their usability among regulated facilities; and (5) making technical corrections and conforming changes to address inadvertent errors, remove obsolete programs, and improve the readability of the regulations. This renewal incorporates these improvements.

Form numbers: None.

Respondents/affected entities: Private business or other for-profit.

Respondent's obligation to respond: Mandatory (40 CFR part 262 and 265).

Estimated number of respondents: 67,288.

Frequency of response: On occasion.

Total estimated burden: 253,519 hours per year. Burden is defined at 5 CFR 1320.03(b).

Total estimated cost: $14,674,934 (per year), includes $40,041 annualized capital or operation & maintenance costs.

Changes in estimates: The burden hours are likely to stay substantially the same.

Dated: June 19, 2018.
Barnes Johnson,
Director, Office of Resource Conservation and Recovery.

[FR Doc. 2018-14321 Filed 7-2-18; 8:45 am]

BILLING CODE 6560-50-P